DEPARTMENT OF COMMERCE

Foreign-Trade Zones Board

[B-02-2018]

Foreign-Trade Zone 49—Newark/Elizabeth, New Jersey; Application for Expansion of Subzone 49C; E.R. Squibb & Sons, LLC; New Brunswick, New Jersey

An application has been submitted to the Foreign-Trade Zones (FTZ) Board by the Port Authority of New York and New Jersey, grantee of FTZ 49, requesting the expansion of Subzone 49C for the facility of E.R. Squibb and Sons, LLC, located in New Brunswick, New Jersey. The application was submitted pursuant to the provisions of the Foreign-Trade Zones Act, as amended (19 U.S.C. 81a-81u), and the regulations of the FTZ Board (15 CFR part 400). It was formally docketed on January 3, 2018.

The proposed expansion of Subzone 49C will add 0.1258 acres to existing Site 1 (96 acres), located at One Squibb Drive in New Brunswick. No additional authorization for production activity has been requested at this time.

In accordance with the FTZ Board's regulations, Kathleen Boyce of the FTZ Staff is designated examiner to review the application and make recommendations to the FTZ Board.

Public comment is invited from interested parties. Submissions shall be addressed to the FTZ Board's Executive Secretary at the address below. The closing period for their receipt is February 21, 2018. Rebuttal comments in response to material submitted during the foregoing period may be submitted during the subsequent 15-day period to March 8, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Kathleen Boyce at Kathleen.Boyce@trade.gov or (202) 482-1346.

Dated: January 8, 2018.
Andrew McGilvray,
Executive Secretary.

[FR Doc. 2018-00465 Filed 1-11-18; 8:45 am]

BILLING CODE 3510-DS-P